INTERNATIONAL TRADE COMMISSION

Submission for OMB Review; Comment Request

AGENCY: United States International Trade Commission.

ACTION: Agency proposal for the collection of information submitted to the Office of Management and Budget (OMB) for review; comment request.

SUMMARY: In accordance with the provisions of the Paperwork Reduction Act of 1995 (Pub. L. 104-13), the Commission has submitted a proposal for the collection of information to OMB for approval. The proposed information collection is a 3-year extension of the current “generic clearance” (approved by the Office of Management and Budget under Control No. 3117-0016) under which the Commission can issue information collections (specifically, producer, importer, purchaser, and foreign producer questionnaires and certain institution notices) for the following types of import injury investigations: Antidumping, countervailing duty, escape clause, market disruption, NAFTA safeguard, and “interference with programs of the USDA.” Any comments submitted to OMB on the proposed information collection should be specific, indicating which part of the questionnaires or study plan are objectionable, describing the issue in detail, and including specific revisions or language changes.

DATES: To be assured of consideration, comments should be submitted to OMB within 30 days of the date this notice appears in the Federal Register.

ADDRESSES: Comments about the proposal should be directed to the Office of Information and Regulatory Affairs, Office of Management and Budget, New Executive Office Building, Washington, DC 20503, Attention: David Rostker, Desk Officer for U.S. International Trade Commission. Copies of any comments should be provided to Stephen McLaughlin (United States International Trade Commission, 500 E Street, SW., Washington, DC 20436).

FOR FURTHER INFORMATION CONTACT: Copies of the proposed collection of information and supporting documentation may be obtained from John Ascienzo (USITC, tel. no. 202-205-3175). Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov).

SUPPLEMENTARY INFORMATION:

(1) The proposed information collection consists of five forms, namely the Sample Producers', Sample Importers', Sample Purchasers', and Sample Foreign Producers' questionnaires (separate forms are provided for questionnaires issued for the five-year reviews) and Sample Notice of Institution for Five-Year Reviews.

(2) The types of items contained within the sample questionnaires and institution notice are largely determined by statute. Actual questions formulated for use in a specific investigation depend upon such factors as the nature of the industry, the relevant issues, the ability of respondents to supply the data, and the availability of data from secondary sources.

(3) The information collected through questionnaires issued under the generic clearance for import injury investigations are consolidated by Commission staff and form much of the statistical base for the Commission's determinations. Affirmative Commission determinations in antidumping and countervailing duty investigations result in the imposition of additional duties on imports entering the United States. If the Commission makes an affirmative determination in a five-year review, the existing antidumping or countervailing duty order will remain in place. The data developed in escape-clause, market disruption, and interference-with-USDA-program investigations (if the Commission finds affirmatively) are used by the President/U.S. Trade Representative to determine the type of relief, if any, to be provided to domestic industries.

The submissions made to the Commission in response to the notices of institution of five-year reviews form the basis for the Commission's determination as to whether a full or expedited review should be conducted.

(4) Likely respondents consist of businesses (including foreign businesses) or farms that produce, import, or purchase products under investigation. Estimated total annual reporting burden for the period July 2008-June 2011 that will result from the collection of information is presented below.

Table 1.—Projected Annual Burden Data, by Type of Information Collection, July 2008-June 2011
Item | Producer questionnaires | Importer questionnaires | Purchaser questionnaires | Foreign producer questionnaires | Institution notices for 5-year reviews |
Number of respondents | 791 | 1,345 | 1,041 | 1,180 | 86 | 4,443
Frequency of response | 1 | 1 | 1 | 1 | 1 | 1
Total annual responses | 791 | 1,345 | 1,041 | 1,180 | 86 | 4,443
Hours per response | 67.1 | 41.4 | 30.2 | 48.0 | 14.9 | 44.6
Total hours | 53,111 | 55,710 | 31,412 | 56,693 | 1,279 | 198,205

No recordkeeping burden is known to result from the proposed collection of information.

By order of the Commission.
Issued: March 28, 2008.
Marilyn R. Abbott,
Secretary to the Commission.

[FR Doc. E8-6806 Filed 4-1-08; 8:45 am]

BILLING CODE 7020-02-P